DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held May 26, 2011 from 12 p.m. to 1 p.m.

ADDRESSES: The meeting will be held at RTCA, Inc., 1828 L Street, NW., Suite 805, Colson Board Room, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Program Management Committee meeting. The agenda will include:

• Opening Plenary (Welcome And Introductions).

• Review/Approve Summary of March 17, 2011 PMC meeting, RTCA Paper No. 085-11/PMC-889.

• Publication Consideration/Approval.

• Final Draft, Report—Assessment of the LightSquared Ancillary Terrestrial Component Radio Frequency Interference Impact on GNSS L1 Band Airborne Receiver Operations, prepared by SC-159.

• Other Business.

• Document Production and PMC Meeting Schedule.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 6, 2011.
Robert L. Bostiga,
RTCA Advisory Committee.

[FR Doc. 2011-11575 Filed 5-11-11; 8:45 am]

BILLING CODE 4910-13-P